DEPARTMENT OF THE INTERIOR

National Park Service

Golden Gate National Recreation Area and Point Reyes National Seashore Advisory Commission; Notice of Cancellation and Notice of Change of Meeting Dates

Notice is hereby given in accordance with the Federal Advisory Committee Act that the meeting of the Golden Gate National Recreation Area and Point Reyes National Seashore Advisory Commission previously scheduled for Tuesday, August 15, 2000 at Building 201, Fort Mason, Bay and Franklin Streets, San Francisco, California is cancelled. The Advisory Commission, however, will meet on Tuesday, August 29, 2000 at Building 201, Fort Mason, Bay and Franklin Streets, San Francisco, California.

Change of Meeting Dates

Beginning in September 2000, the Golden Gate National Recreation Area and Point Reyes National Seashore Advisory Commission will meet every fourth Tuesday of each month rather than every third Tuesday, as previously noticed in FR Doc. 99-32837, published December 20, 1999. The Advisory Commission will meet to hear presentations on issues related to management of the Golden Gate National Recreation Area and Point Reyes National Seashore. Meetings of the Advisory Commission are scheduled for the following dates at San Francisco, Marin County, or San Mateo County and at Point Reyes Station, California:

Tuesday, September 26, San Francisco, CA or Marin County, CA

Saturday, October 21, Point Reyes, CA

Tuesday, October 24, San Francisco, CA or Marin County, CA

Tuesday, November 28, San Francisco, CA or Marin County, CA

Tuesday, December 26, San Francisco, CA

Should the meeting scheduled for Tuesday, December 26, 2000 be cancelled, a notice of cancellation will be published in the Federal Register.

The Advisory Commission was established by Public Law 92-589 to provide for the free exchange of ideas between the National Park Service and the public and to facilitate the solicitation of advice or other counsel from members of the public on problems pertinent to the National Park Service systems in Marin, San Francisco and San Mateo Counties. Current members of the Commission are as follows:

Mr. Richard Bartke, Chairman

Ms. Amy Meyer, Vice Chair

Ms. Lennie Roberts

Dr. Edgar Wayburn

Mr. Michael Alexander

Mr. Gordon Bennett

Ms. Anna-Marie Booth

Ms. Yvonne Lee

Ms. Susan Giacomini Allan

Mr. Trent Orr

Mr. Redmond Kernan

Mr. Doug Nadeau

Ms. Betsey Cutler

Mr. Trent Orr

Mr. Dennis Rodoni

Mr. John J. Spring

Mr. Mel Lane

All meetings of the Advisory Commission will be held at 7:30 p.m. at GGNRA Park Headquarters, Building 201, Fort Mason, Bay and Franklin Streets, San Francisco, except the Saturday, October 21 meeting, which will be held at 10:30 a.m. at the Dance Palace, corner of 5th and B Streets, Point Reyes Station, California.

However, some meetings may be held at other locations in Marin County or possibly at locations in San Mateo County. Information confirming the time and location of all Advisory Commission meetings or cancellations of any meetings can be received by calling the Office of the Staff Assistant at (415) 561-4733.

These meetings will contain a Superintendent's Report, a Presidio General Manager's Report, and a Presidio Trust Director's Report.

Specific final agendas for these meetings will be made available to the public at least 15 days prior to each meeting and can be received by contacting the Office of the Staff Assistant, Golden Gate National Recreation Area, Building 201, Fort Mason, San Francisco, California 94123 or by calling (415) 561-4733.

These meetings are open to the public. They will be recorded for documentation and transcribed for dissemination. Minutes of the meetings will be available to the public after approval of the full Advisory Commission. A verbatim transcript will be available three weeks after each meeting. For copies of the minutes contact the Office of the Staff Assistant, Golden Gate National Recreation Area, Building 201, Fort Mason, San Francisco, California 94123.

Dated: July 20, 2000.
Brian O'Neill,
General Superintendent, Golden Gate National Recreation Area.

[FR Doc. 00-19016 Filed 7-26-00; 8:45 am]

BILLING CODE 4310-70-P